DEPARTMENT OF COMMERCE

National Oceanic and Atmospheric Administration

RIN 0648-XF728

Determination of Overfishing or an Overfished Condition

AGENCY: National Marine Fisheries Service (NMFS), National Oceanic and Atmospheric Administration (NOAA), Commerce.

ACTION: Notice.

SUMMARY: This action serves as a notice that NMFS, on behalf of the Secretary of Commerce (Secretary), has found that the following stocks are subject to overfishing or approaching an overfished condition. The Stillaguamish coho salmon stock in Puget Sound is now subject to overfishing. The Klamath River fall Chinook salmon stock on the Northern California coast, the Queets coho salmon stock on the Washington coast, and the Skagit coho salmon stock in Puget Sound are all approaching an overfished condition. The Puerto Rico spiny lobster stock and the Puerto Rico Triggerfishes and Filefishes Complex are both still subject to overfishing. NMFS, on behalf of the Secretary, notifies the appropriate fishery management council (Council) whenever it determines that overfishing is occurring, a stock is in an overfished condition or a stock is approaching an overfished condition.

FOR FURTHER INFORMATION CONTACT: Regina Spallone, (301) 427-8568.

SUPPLEMENTARY INFORMATION: Pursuant to section 304(e)(2) of the Magnuson-Stevens Fishery Conservation and Management Act (Magnuson-Stevens Act), 16 U.S.C. 1854(e)(2), NMFS, on behalf of the Secretary, must notify Councils, and publish in the Federal Register, whenever it determines that a stock or stock complex is subject to overfishing, overfished, or approaching an overfished condition.

NMFS has determined that the Stillaguamish coho salmon stock in Puget Sound is now subject to overfishing, as the current estimate of fishing mortality (F) exceeds its maximum fishing mortality threshold (MFMT). This determination is based on a 2017 assessment—using data from 2015—produced by the Pacific Fishery Management Council's (Pacific Council) Salmon Technical Team (STT). The Pacific Council manages this stock. Since this stock migrates north, it is also managed under the Pacific Salmon Treaty (Treaty), a bilateral agreement to facilitate management of certain salmon stocks between the United States and Canada. The Pacific Salmon Commission (Commission) implements this Treaty. NMFS has informed the Pacific Council of this determination and that, if exceedance of MFMT for Stillaguamish coho continues, the Council may consider taking further action, consistent with the provisions of the FMP. Due to the international management of this stock, the Pacific Council has limited ability to control ocean fisheries in waters outside their jurisdiction.

NMFS has determined that the Klamath River fall Chinook salmon stock on the Northern California coast, the Queets coho salmon stock on the Washington coast, and the Skagit coho salmon stock in Puget Sound are all approaching an overfished condition. These determinations are made when the 3-year geometric mean of each stock's two most recent postseason estimates of spawning escapement and the current preseason forecast of spawning escapement is below the stock's minimum stock size threshold (MSST). The determination for Chinook is based on a 2017 assessment—using data from 2015-2017—produced by the Pacific Council's STT using methodologies that have been reviewed by the Pacific Council's Science and Statistical Committee. The determinations for the two coho stocks are based on a 2017 assessment—using data from 2014-2015, 2017—produced by the Commission's Coho Technical Committee. NMFS informed the Pacific Council that if any of these stocks become overfished, they must direct the STT to prepare a rebuilding plan within one year. Due to the international management of the coho stocks, the Pacific Council has limited ability to control ocean fisheries in waters outside their jurisdiction.

NMFS has determined that Puerto Rico spiny lobster and the Puerto Rico Triggerfishes and Filefishes Complex are both still subject to overfishing because the 2015 landings exceeded the overfishing limits (OFLs). NMFS is working with the Caribbean Fishery Management Council to implement conservation and management measures to end overfishing on this stock and stock complex.

Dated: November 8, 2017.
Emily H. Menashes,
Acting Director, Office of Sustainable Fisheries, National Marine Fisheries Service.

[FR Doc. 2017-24686 Filed 11-14-17; 8:45 am]

BILLING CODE 3510-22-P